DEPARTMENT OF TRANSPORTATION

National Highway Traffic Safety Administration

49 CFR Part 575

[Docket No. NHTSA-2010-0025]

RIN 2127-AK51

New Car Assessment Program (NCAP); Safety Labeling

AGENCY: National Highway Traffic Safety Administration (NHTSA), Department of Transportation (DOT).

ACTION: Final rule.

SUMMARY: New passenger vehicles manufactured on or after September 1, 2007 must be labeled with safety rating information published by the National Highway Traffic Safety Administration (NHTSA) under its New Car Assessment Program (NCAP). This information is required by statute to be part of the Monroney (automobile price sticker) label. Effective beginning in model year 2011 passenger vehicles, NHTSA enhanced the NCAP ratings program to include, among other things, the incorporation of an overall vehicle score that is derived from the vehicle's frontal crash, side crash, and rollover resistance ratings. This final rule amends NHTSA's regulation on vehicle labeling of safety rating information to reflect the enhanced NCAP ratings program.

DATES: The final rule is effective August 29, 2011.

Petitions for Reconsideration: If you wish to petition for reconsideration of this rule, your petition must be received by September 12, 2011.

ADDRESSES: If you wish to petition for reconsideration of this rule, you should refer in your petition to the docket number of this document and submit your petition to: Administrator, National Highway Traffic Safety Administration, 1200 New Jersey Avenue, SE., West Building, Washington, DC 20590.

The petition will be placed in the docket. Anyone is able to search the electronic form of all documents received into any of our dockets by the name of the individual submitting the comment (or signing the comment, if submitted on behalf of an association, business, labor union, etc.). You may review DOT's complete Privacy Act Statement in the Federal Register published on April 11, 2000 (Volume 65, Number 70; Pages 19477-78).

For access to the docket to read background documents or comments received, go to http://www.regulations.gov and follow the online instructions for accessing the docket. You may also visit DOT's Docket Management Facility, 1200 New Jersey Avenue, SE., West Building Ground Floor, Room W12-140, Washington, DC 20590-0001 for on-line access to the docket.

FOR FURTHER INFORMATION CONTACT: For non-legal issues, you may contact Ms. Jennifer N. Dang, Office of Crashworthiness Standards (Telephone: 202-366-1740) (Fax: 202-493-2739). For legal issues, you may call Mr. Steve Wood, Office of the Chief Counsel (Telephone: 202-366-2992) (Fax: 202-366-3820). You may send mail to both of these officials at the National Highway Traffic Safety Administration, 1200 New Jersey Avenue, SE., West Building, Washington, DC 20590-0001.

SUPPLEMENTARY INFORMATION:

Table of Contents

I. Overview of NCAP and Congressional Mandate

II. Summary of the Notice of Proposed Rulemaking

III. Summary of Comments to the NPRM

IV. How the Final Rule Differs From the NPRM

V. Response to Comments and Agency Decisions

A. Applicability

B. Label Content

1. Space Available on the Label

2. Safety Concern Symbol

3. Similar Weight Comparison Language

4. The Need to Better Distinguish Between Current and Revised Label

C. Absence of Crash Avoidance Information on the Label

D. Costs Associated With New Labels

E. Labeling Before and After NCAP Testing

F. Consumer Survey and Label Research

G. Other Issues

1. Legend for Star Ratings

2. Overall Vehicle Score

3. Correction to Ratings Description

4. Visibility Obstructions

H. Lead Time and Other Timing Considerations

VI. Rulemaking Analyses and Notices

I. Overview of NCAP and Congressional Mandate

Under its New Car Assessment Program (NCAP), the National Highway Traffic Safety Administration (NHTSA) subjects vehicles to frontal crash, side crash, and rollover resistance tests and, based on the results, assigns safety ratings to the tested vehicles. The ratings are expressed in terms of a 5-star rating system, with five stars being the highest rating and one star the lowest. The ratings would enable consumers to consider and assess the relative safety of vehicles before deciding which new vehicle they want to purchase. The labels would also provide an incentive for vehicle manufacturers to make voluntary improvements in the safety of their vehicles beyond the minimum levels of performance required by the Federal motor vehicle safety standards.

The following overview describes two separate, on-going efforts to improve the NCAP program: (1) Requiring that the NCAP information be placed on labels on new passenger vehicles and (2) upgrading the NCAP information, most significantly by introducing an overall safety rating.

In 2005, Congress enacted the Safe, Accountable, Flexible, Efficient Transportation Equity Act: A Legacy for Users (SAFETEA-LU).¹ Section 10307 required new passenger vehicles to be labeled with either the safety ratings it had received under NCAP or a statement that the vehicle had not been rated under NCAP. The ratings must be displayed on its new vehicle price sticker, known as the Monroney label. The Monroney label is required by Federal law ² and is affixed to the side window showing the price of the vehicle and the options installed. The Monroney label on all light vehicles is required to show, among other things:

¹ Public Law 109-59 (August 10, 2005; 119 Stat. 1144).

² The Automobile Information Disclosure Act (AIDA) (Title 15, United States Code, chapter 28, Sections 1231-1233) was enacted into law in 1958, and is also called the “Monroney Act,” after its sponsor, Senator Monroney of Oklahoma. The Monroney Act requires all new light vehicles to have a label affixed to the side window showing the price of the vehicle and options installed. The information required to be labeled on the window by the Monroney Act remained unchanged from its passage in 1958 until 2005 when Congress enacted SAFETEA-LU.

• The manufacturer's suggested retail price (MSRP) of the base vehicle;

• The MSRP of each accessory and each item of optional equipment installed on the particular vehicle;

• The transportation charges for delivery of the vehicle from the manufacturer to the dealer; and

• The total MSRP of all of the above.

SAFETEA-LU also required that the safety rating information be presented in a legible, visible, and prominent fashion, and that the safety rating area of the Monroney label meet minimum size requirements ³ and specified a statement to be provided if no safety rating information is available for a particular vehicle model.⁴

³ 15 U.S.C 1232(g) states that if one or more safety ratings for such automobile have been assigned and formally published or released by the National Highway Traffic Safety Administration under the New Car Assessment Program, information about safety ratings that (1) includes a graphic depiction of the number of stars, or other applicable rating, that corresponds to each such assigned safety rating displayed in a clearly differentiated fashion indicating the maximum possible safety rating; (2) refers to frontal impact crash tests, side impact crash tests, and rollover resistance tests (whether or not such automobile has been assigned a safety rating for such tests); (3) contains information describing the nature and meaning of the crash test data presented and a reference to additional vehicle safety resources, including http://www.safercar.gov; and (4) is presented in a legible, visible, and prominent fashion and covers at least—(A) 8 percent of the total area of the label; or (B) an area with a minimum length of 4½ inches and a minimum height of 3½ inches.

⁴ 15 U.S.C. 1232(h) states that if an automobile has not been tested by NHTSA under NCAP, or safety ratings for such automobile have not been assigned in one or more rating categories, the label must contain a statement to that effect.

In addition to the MSRP and safety ratings information, Congress has also permitted the information from two other Federal programs to appear on the Monroney label. The Energy Policy Conservation Act (EPCA) requires that the Environmental Protection Agency (EPA) issue regulations requiring vehicle manufacturers to attach a prominently placed label that provides information on:

• The vehicle's fuel economy;

• The estimated annual fuel cost of operating the vehicle;

• The range of fuel economy of comparable vehicles by all manufacturers; and

• A statement that a booklet is available from the dealer to compare the fuel economy of other vehicles manufactured by all manufacturers for the model year.⁵

⁵ 49 U.S.C. 32908(b)(2) expressly provides that the EPA “may allow a manufacturer to comply with this subsection by disclosing the information on the label required under * * * the Automobile Information Disclosure Act (15 U.S.C. 1232).”

In 2007, Congress amended the Energy Independence Security Act (EISA) by, among other things, mandating that NHTSA issue a rule requiring that greenhouse gas emissions as well as new fuel economy information be placed on labels affixed to new vehicles.⁶ Pursuant to EISA, NHTSA and EPA published a final rule to revise substantially the fuel economy labeling requirements.⁷

⁶ 49 U.S.C. 32908(g).

⁷ 76 FR 39478; July 06, 2011.

Finally, the Motor Vehicle Information and Cost Savings Act requires that information on domestic and foreign content be provided on new vehicle labels.⁸

⁸ 49 U.S.C. 32304(g) provides that NHTSA “shall permit a manufacturer to comply with this section by allowing the manufacturer to disclose the information * * * on the label required under * * * the Automobile Information Disclosure Act (15 U.S.C. 1232).”

On September 12, 2006, the agency published a final rule implementing the NCAP safety labeling requirements of SAFETEA-LU by establishing a new regulation, 49 CFR 575.301, Vehicle Labeling of Safety Rating Information,⁹ that required vehicle manufacturers to incorporate a distinct safety rating label into the Monroney label.

⁹ 71 FR 53572, Docket No. NHTSA-2006-25772.

The final rule provided that:

(1) New passenger automobiles manufactured on or after September 1, 2007, must display specified NCAP information on a safety rating label that is part of their Monroney label;

(2) The specified information must include a graphical depiction of the number of stars achieved by a vehicle for each safety test;

(3) Information describing the nature and meaning of the test data, and references to http://www.safercar.gov and NHTSA's toll-free hotline number for additional vehicle safety information, must be placed on the label;

(4) The label must be legible and visible with a minimum length of 4½ inches and a minimum height of 3½ inches or cover at least 8 percent of the total area of the Monroney label, whichever is larger;

(5) Ratings must be placed on new vehicles manufactured 30 or more days after the manufacturer receives notification from NHTSA of NCAP ratings for those vehicles.

In its discretion, the agency decided to require that the label indicate the existence of events that occurred during NCAP testing and that produced safety concerns, but are not reflected in the resulting NCAP ratings. The final rule also required that the agency's toll-free-hotline number appear on the label and adopted specifications for such matters as the wording and arrangement of some of the messages and the font sizes that apply in various areas of the label.

On July 11, 2008, the agency published a final decision notice in which it described the NCAP enhancements it was adopting.¹⁰ These enhancements include:

¹⁰ 73 FR 40016, Docket No. NHTSA-2006-26555.

• For the frontal crash program—modifying the frontal NCAP rating system to reflect updated test dummies, expanded injury criteria, and the inclusion of all body regions that are covered by Federal Motor Vehicle Safety Standard (FMVSS) No. 208;

• For the side crash program—modifying the side NCAP rating system to reflect new side impact test dummies, new injury criteria, the inclusion of nearly all of the body regions that are covered by FMVSS No. 214, as well as a new side pole crash test using a small female crash test dummy;

• A new overall vehicle score based on frontal crash, side crash, and rollover resistance test results; and

• A new program that will provide consumers with information concerning the availability of advanced crash avoidance technologies that meet NHTSA's performance criteria and that have been shown to reduce crashes.

The final decision notice did not announce any changes to the NCAP rollover resistance testing and rating system.

The enhancements to NCAP took effect in the 2011 model year. The associated safety ratings are based on the test protocols and rating system in the July 2008 notice.

II. Summary of the Notice of Proposed Rulemaking

On March 9, 2010, NHTSA published in the Federal Register (75 FR 10740) (Docket No. NHTSA-2010-0025) a notice of proposed rulemaking (NPRM) to revise the agency's regulation on vehicle labeling of safety rating information to reflect the enhancements to the NCAP program, particularly the addition of the overall vehicle score.

The major proposals in the NPRM included:

(1) Beginning with model year 2011, safety rating labels on new passenger vehicles that are manufactured on or after September 1, 2010 would be required to include, as the first item of safety information in the safety rating label, an overall vehicle score based on a vehicle's frontal crash, side crash, and rollover resistance ratings. The agency would allow early compliance for model year 2011 vehicles that are manufactured before September 1, 2010;

(2) Language describing the nature and meaning of the NCAP test data used to generate vehicle safety ratings and a referral to http://www.safercar.gov for additional vehicle safety information in the safety rating label would be revised slightly and, in some cases, relocated in the safety rating label;

(3) Safety concerns identified as a result of NCAP testing would need to be displayed in the overall vehicle score area of the safety rating label and in the appropriate area of the safety rating label to which the safety concern applies (frontal, side, or rollover); and

(4) The proposed regulation applying to model year 2011 and later vehicles (manufactured on or after September 1, 2010) would be designated as 49 CFR 575.302. The existing regulation, with minor conforming amendments, would continue to be at 49 CFR 575.301.

Discussion of Minimum NCAP Label Size in September 2010 CAFE/Greenhouse Gas Labeling Proposal

In a proposal published on September 23, 2010 to implement EISA's CAFE/greenhouse gas labeling requirements,¹¹ NHTSA noted the Advocates for Highway and Auto Safety (Advocates) and Robert Bosch LLC (Bosch) raised questions about the agency's interpretation, announced in the September 2006 final rule,¹² that SAFETEA-LU's specification of a minimum size for the label indicated that the agency did not have any discretion to specify a larger minimum size. The Advocates and Bosch argued that the statutory specification merely established a floor on the discretion of the agency to specify a minimum size. The agency stated in the 2010 proposal that it was re-examining its interpretation.

¹¹ 75 FR 58078, at 58147; September 23, 2010.

¹² 71 FR 53572, 53576, September 12, 2006.

III. Summary of Comments on the NPRM

In response to the NPRM, NHTSA received comments from 8 organizations representing motor vehicle manufacturers and their associations, automotive suppliers, as well as consumer and dealer groups. The motor vehicle manufacturer associations included: the Alliance of Automobile Manufacturers (Alliance) and the Technical Affairs Committee of the Association of International Automobile Manufacturers (AIAM).¹³ Vehicle manufacturers included: Honda Motor Co., Ltd. (Honda), Nissan Motor Co., Ltd. (Nissan), and Volvo Car Corporation (Volvo). Bosch was the single automotive supplier that provided comments. Consumer and dealer groups included the Advocates and the National Automobile Dealers Association (NADA), respectively.

¹³ The Association of International Automobile Manufacturers is now known as the Association of Global Manufacturers.

Vehicle manufacturers and their associations were generally supportive of the proposals in the NPRM for revising the Monroney label content to reflect the new program; however, they mainly expressed concern over the proposed amount of lead time for meeting the new requirements and other logistical challenges. Bosch strongly supported the inclusion of collision mitigation (active safety) rating information on the Monroney label.

The Advocates expressed concerns about the presentation of information and safety concerns on the vehicle disclosure label, and consumer understanding of the NCAP star safety ratings. Specifically, the Advocates urged NHTSA to increase the size of the label beyond the minimum requirement set forth in the statute, and include for consumers, what it considered to be, essential information, such as a brief statement explaining factual information and context about the safety concern warning on the vehicle and a legend conveying the association of star ratings and risk of injuries to the occupants in a particular vehicle. Also, the Advocates agreed that NHTSA should conduct research to understand better any potential tradeoffs consumers may make among the four sections currently included on the Monroney label and whether the amount of space dedicated to each of the four sections as well as the location of those four sections affect the attention consumers give the sections.

Contrary to the Advocates' suggestion regarding the label size, NADA favored limiting the overall size of the Monroney label to minimize potential field-of-vision obstruction for new vehicle drivers. Also, NADA discussed the importance of providing consumers with ratings from all three NCAP test modes and the overall vehicle score and consistent rating information at the point of sale. NADA also offered comments in the areas of program transition and consumer education.

IV. How the Final Rule Differs From the NPRM

The changes from the NPRM are summarized in this section and explained in detail in the next section of the preamble. Today's final rule essentially adopts the provisions of the NPRM with some minor adjustments.

• The following text, “Safety concern: Visit http://www.safercar.gov or call 1-888-327-4236 for more details” (preceded by the safety concern symbol depicted in figure 4 to § 575.302 and ending with a period) is only required in the overall vehicle score area of the label. This mitigates space concerns in cases where a vehicle receives a safety concern in more than one crash test area.

• The adopted language states that frontal crash ratings and the overall vehicle score should only be compared to other vehicles of “similar size and weight,” rather than of “similar weight class.”

• To minimize consumer confusion at the point of sale, the agency believes that it is critical that the final rule for the safety rating label, which includes the overall vehicle score, be published in time for placement of the revised safety rating label on model year 2012 vehicles. The final rule for the fuel economy/greenhouse gas emissions label was published in the Federal Register on July 6, 2011. The agency believes that the consumer research testing of the entire Monroney label will be more effective if the fuel economy/greenhouse gas emissions portion and the safety rating portion of the Monroney label are finalized. Thus, the agency chose to postpone the consumer research until revision to both portions of the Monroney label is finalized.

• The agency has slightly modified explanatory language that will be required in the side crash area of the safety rating label to make clear that the ratings reflect risks involved in a real-world side impact crash, rather than risks associated with the two crash tests that are used to determine the side crash ratings.

• Finally, the final rule extends the compliance date of the revised safety rating labels from September 1, 2010 to January 31, 2012 for the model year 2012 and beyond, in order to provide sufficient lead time for vehicle manufacturers to prepare for the implementation of the revised labels. Passenger vehicles manufactured on or after January 31, 2012 will be required to have the new safety rating label, and early compliance will be permitted for model year 2012 vehicles that are manufactured before January 31, 2012, provided that the ratings placed on the safety rating label are derived from vehicle testing conducted by NHTSA under the enhanced NCAP testing and rating program.

V. Response to Comments and Agency Decisions

The majority of the proposed amendments in the NPRM dealt with label content. The NPRM also discussed: whether to include crash avoidance technology information on the label, the agency's process for rating notification, timing, consumer education and proposed compliance date.¹⁴ In the following sections, we describe the public comments in these areas and explain the agency's response.

¹⁴ For a complete discussion of the issues raised in the NPRM, please refer to the March 9, 2010 NPRM (75 FR 10740).

A. Applicability

NHTSA proposed that all changes to the safety rating label proposed in the NPRM would apply to safety rating labels in the Monroney labels of passenger vehicles with a gross vehicle weight rating (GVWR) of 4,536 kilograms (10,000 pounds) or less. It was further proposed that vehicles that have a Monroney label and that have been rated in at least one area under NCAP would need to display those ratings. The phrase “not rated” would be used in other areas. Also, the phrase “to be rated” may be used if the manufacturer has received written notification from NHTSA that the vehicle has been chosen for NCAP testing. As an alternative, vehicles that display a Monroney label and that have not been rated under NCAP would be required to include in their Monroney label a smaller vehicle safety rating label, which indicates that the vehicle has not been rated.

One commenter, NADA, urged NHTSA to make sure that if a vehicle is tested for any of the three NCAP modes that it be tested for all of the modes so that all information on the label, including the overall vehicle score, is provided. Failure to have complete information on the label is confusing and limits a label's utility for purposes of making vehicle comparisons, the organization said. As an alternative, it suggested there should be three label options. One would have the overall vehicle score section and would be used when tests have been conducted and information for all three test modes can be displayed along with the overall vehicle score. The second would be similar to the current label and would be used in cases where less than the complete set of NCAP tests has been completed. The third would be used for untested vehicles.

NADA further objected to the use of the phrase “to be rated” since it considered it confusing, and said the phrase “not rated” should suffice.

Agency Response: The agency agrees that NCAP is more effective when all possible ratings for a vehicle are available and displayed on the safety rating label for that vehicle and on the agency's Web site, http://www.safercar.gov. The agency has made a concerted effort in recent years to assure that vehicles tested under NCAP undergo all relevant tests. It has also worked towards ensuring that all testing occurs in a narrow window of time so that all of the test results and ratings become available simultaneously. These two efforts have minimized incomplete information on the safety rating labels and on the Web site.

During the 2011 model year, as NCAP transitions from the previous testing and rating system to the enhanced system, there may be more situations than the agency would like in which only partial ratings are available for vehicles. This is due largely to the fact that some rollover resistance ratings in many cases carry over from the previous model year, since there has been no change to the rollover testing and rating system, while no crash ratings will carry over because all model year (MY) 2011 vehicles need to be crash tested and safety rated using the enhanced NCAP testing and rating system. The agency fully expects that within a few years, all vehicles rated under NCAP will have complete ratings.

The agency believes NADA's suggestion for three different label options, with each option geared to the amount of ratings information available for a given vehicle, would not be used by manufacturers because of the practical and cost considerations involved. Two label options are already available to manufacturers in the current regulation and will be available under this final rule. One contains areas for all possible NCAP ratings. The other may be used if no ratings have been developed for a vehicle. The latter is smaller and simply states, “This vehicle has not been rated by the government for overall vehicle score, frontal crash, side crash, or rollover risk.” This seems to be comparable with the third option suggested by NADA.

The use of these two label options along with either of the phrases “to be rated” or “not rated” in the appropriate circumstances helps to keep safety in the minds of consumers as they shop for new vehicles. The phrase “to be rated,” in particular, which NADA suggested be dropped as an option for manufacturers, communicates to a consumer interested in a particular vehicle, but also interested in safety, that safety information will be available for that vehicle at some future time. Presumably some consumers may wait to purchase a new vehicle until safety information for that vehicle is available. Without the “to be rated” designation and “not rated” in its place, consumers might drop the vehicle from consideration.

For these reasons, the agency has decided to continue with the two label options that are currently in the regulation and the allowable use of the phrases “to be rated” for instances when ratings are not yet, but will be, available and “not rated” for when a vehicle has not been, and will not be, tested and rated for that model year.

B. Label Content

1. Space Available on the Label

The NPRM proposed modifying the safety rating label to incorporate a new area of the label for the overall vehicle score. This area would be located immediately below the heading area and would be the first item of safety information. The format of the remainder of the safety rating label would be very similar to the current safety rating label, except that language explaining the 5-star rating system and other language indicating that NHTSA is the source of the safety information contained in the safety rating label would now be incorporated into the footer area of the label, rather than be displayed in its own area of the label. As is currently the case, the areas of the label whose background is light in color—overall vehicle score, frontal, side, and rollover—would continue to be required to be separated from each other by a dark line that is a minimum of 3 points in width. The NPRM also proposed to require, whenever a safety concern arises in any rating category, that the safety concern symbol and related statement also be included in the overall vehicle score area of the safety rating label.

While offering general support for the content and layout of the proposed label revisions, the Alliance expressed concern that there may not be sufficient space on the label to accommodate safety concerns in more than one of the areas in which safety ratings are provided. This is because the text, “Safety concern: Visit http://www.safercar.gov or call 1-888-327-4236 for more details” (preceded by the safety concern symbol depicted in figure 4 to § 575.302 and ending with a period) would be required in each of the areas in which a safety concern is noted as well as in the overall vehicle score portion of the label. The Alliance suggested that this could be easily addressed by requiring the safety concern text only in the overall vehicle score area of the label while continuing to require only the safety concern symbol in those ratings areas of the label where the safety concern occurred.

Honda stated its testing of the proposed label layout indicated that “the content of the proposed label does not fit into the proposed minimum text box using the prescribed font sizes while maintaining the required one-eighth inch white space margin.” Honda also stated that the overall vehicle score should be “sufficiently distinctive” from the three supporting ratings categories for two reasons. First, presenting the overall vehicle score in a distinctive way would help to discourage comparisons between the current and new label. Second, the company said the visual presentation of the overall vehicle score should make clear to consumers that it represents a combination of the frontal, side, and rollover ratings. Both of these concerns “could be addressed by enlarging the font size of the overall vehicle score and affiliated star ratings,” the company said.

Honda submitted a mock up of its vision of a revised label in which the font size for the overall vehicle score would be enlarged and the frontal, side, and rollover ratings would consist of one line, with no distinct ratings that apply to the driver and passenger.¹⁵ The company said the proposed label it submitted is consistent with what the company sees as the need for the overall vehicle score to be more prominently displayed. The company also stated that by limiting the ratings in specific areas to one line (as opposed to the two in the current label), would allow additional space to address the company's concern that there is not enough label space to include all of the information that is proposed. The extra label space would accommodate any future additions to the label, such as advanced crash avoidance technology ratings, the company stated.

¹⁵ See Docket No. NHTSA-2010-0025-0011, Attachment 2.

Agency Response: In drafting the NPRM, the agency did not factor in situations in which a safety concern could be identified in more than one relevant crash area. Therefore, the agency agrees with the Alliance that for the safety rating label to accommodate the text “Safety concern: Visit http://www.safercar.gov or call 1-888-327-4236 for more details” (preceded by the safety concern symbol depicted in figure 4 to § 575.302 and ending with a period) in the overall vehicle score area of the label and in one or more of the areas (frontal crash, side crash, or rollover) in which a safety concern is identified, additional label space will be required.

The agency also finds merit in the Alliance's proposed solution. The most important function of the text is to refer consumers to http://www.safercar.gov for more detailed information on the safety concern or concerns. This need can be adequately met by having the text only in the overall vehicle score area. While there may have been additional value in also having the text in the area or areas reflecting the type of test in which the safety concern arose, doing so is not necessary, particularly in light of the space limitations of the safety ratings label under the current interpretation of SAFETEA-LU. The safety concern symbol will be required both in the area (or areas) of the label for the type of test in which the safety concern occurred as well as in the overall vehicle score area. However, the text, “Safety concern: Visit http://www.safercar.gov or call 1-888-327-4236 for more details” (preceded by the safety concern symbol depicted in figure 4 to § 575.302 and ending with a period) will only be required in the overall vehicle score area. We believe that limiting the text to the overall vehicle score area of the label will also help address Honda's concern about available space on the label.

The agency is not adopting Honda's suggestion to make the overall vehicle score area of the safety rating label more prominent. NHTSA recognizes that the context within which the prominence of the safety ratings information can be assessed includes not simply the safety rating label itself, but also the entire Monroney label, which contains other competing types of information and methods of presentation. Within the context of the safety ratings label itself, the overall vehicle score area already has a degree of prominence because it is the first item of safety information in the revised safety rating label.

In addition, the agency believes that there is less of a need at this point to distinguish the current safety rating label from the revised label. Because the revised safety rating label contained in this final rule was not yet available, ratings based on the enhanced NCAP testing and rating system have been displayed on MY 2011 vehicles using the current label. As a result, the overall vehicle score has not been displayed on MY 2011 vehicles thus far even though ratings under the enhanced NCAP testing and rating system are available. This means that when the revised safety rating label goes into effect on January 31, 2012, safety ratings on MY 2011 and MY 2012 vehicles on dealers lots will all be based on the enhanced NCAP testing and ratings system, whether the ratings appear on the current or revised safety rating label. The only difference will be that vehicles with the revised safety rating label will display the overall vehicle score, while vehicles with the current safety rating label will not.

The answer to any consumer's concern as to why the overall vehicle score appears on some labels and not others will be simple. The overall vehicle score applies to all identical makes and models in the same model year. If a MY 2012 vehicle has not been changed from the MY 2011 version of the vehicle, the same NCAP ratings will apply to both model year vehicles, including the overall vehicle score that will appear on the safety rating label of the MY 2012 version of the vehicle.

Furthermore, while the agency wants consumers to be aware of and use the overall vehicle score as a quick and easy measure of relative overall vehicle safety, it does not want that to occur in such a way that it diverts attention from the other safety ratings on the label. There will be situations in which a vehicle gets an overall vehicle score that is higher than one or more of the individual ratings that appear in other portions of the safety rating label. Some consumers may be as interested or more interested in those ratings as in the overall vehicle score. Parents, for example, may be very interested in the rear seat side crash rating because they know their children will be traveling primarily in the rear seat of their vehicle.

2. Safety Concern Symbol

For vehicle tests for which NHTSA reports a safety concern as part of the star rating, the NPRM proposed requiring a symbol consisting of an exclamation point inside a triangle (safety concern symbol) to be depicted as a superscript to the star rating, and the same symbol to be depicted at the bottom of the relevant area along with the words “Safety Concern: Visit http://www.safercar.gov or call 1-888-327-4236 for more details.”

The Advocates commended NHTSA for including the safety concern symbol and the accompanying reference to http://www.safercar.gov and the agency's hotline in the area of the label to which a safety concern applies. The Advocates said that a “brief, but specific statement as to the nature of the safety concern” should also be provided. The organization provided examples such as, “door openings,” “doors unable to open after crash test,” and “doors opened during side impact compliance test.” This is warranted, the Advocates suggested, because at the point of sale consumers will generally not have access to http://www.safercar.gov or the agency's hotline. Consumers will, in some situations at least, ignore the safety concern symbol, the Advocates added.

NADA objected to the use of the safety concern symbol stating that “dealers surveyed continue to suggest that these symbols can raise unnecessary questions for prospective purchasers.” The association asked that only the footnote, “Visit http://www.safercar.gov for more safety information on this vehicle,” be required if, and when, necessary.

Honda stated that having safety concerns expressed in both the overall vehicle score area of the label and the rating category in which the safety concern occurred “may mislead consumers into believing a vehicle with a single safety concern has two safety concerns.” Honda stated, “* * * we propose that only the safety concern symbol be included as superscript to the overall rating when it is applicable, without the accompanying text. We suggest that the text explaining the safety concern would only be printed as necessary in the frontal crash, side crash or rollover area(s), along with the safety concern symbol as superscript to the relevant rating area.”

Agency Response: We are denying the request to add explanatory language to the safety concern symbol. The Advocates' suggestion demonstrates the delicate balance that exists between the amount of information that could go on the label and the amount of space available under the current interpretation of the minimum size language in SAFETEA-LU. It also raises the issue of how much information on the label consumers have the ability to digest. The safety rating label is intended to provide consumers with easy to access and understandable information at the point of sale as to the relative safety of the vehicle(s) they are considering for purchase. The Web site http://www.safercar.gov and the agency's hotline, noted on the safety rating label, are intended to assure that consumers who want more detailed information relating to the safety of a vehicle, such as the type of information addressed in the Advocates' comments, can take the time and do more thorough research on the safety of the vehicle(s) in which they are interested. We believe the current safety rating label could not reasonably accommodate such detailed information, particularly in cases where more than one safety concern exists, as mentioned by Honda.

While we acknowledge that some consumers may choose to ignore the safety concern symbol, as suggested by the Advocates, we believe that such a symbol will cause other consumers to question their dealer, or pause long enough to obtain more information on the agency's Web site, before purchasing a vehicle with a safety concern symbol on its safety rating label. This was evidenced by NADA's comments suggesting that the safety concern symbol raises questions with consumers.

We disagree that the consumer questions raised by the safety concern symbol are “unnecessary,” as suggested by NADA. NCAP is a consumer information program and its purpose is to provide consumers with safety information relating to vehicles. This information includes safety concerns identified during testing of vehicles under NCAP. Information available through http://www.safercar.gov and the agency's hotline is provided to help dealers in need of assistance in explaining the safety concern to a potential vehicle purchaser.

In response to Honda's concern about multiple safety concern symbols confusing consumers, the agency's decision earlier in this notice to limit to the overall vehicle score area of the label language referring a consumer to either http://www.safercar.gov or the agency's hotline for further information about a safety concern will help consumers understand that there are not multiple safety concerns involved.

3. Similar Weight Comparison Language

The NPRM proposed that the language “Should only be compared to other vehicles of similar weight class” be in both the frontal crash area and overall vehicle score area of the safety rating label.

NADA asked whether this phrase can be used for all crash modes. If so, it said the phrase should be moved to the footer area of the label and rewritten to read, “only compare these ratings to those for ¹⁶ similar vehicles.” If the phrase cannot be used for all crash modes, the association suggested that it be kept in the rating sections that apply but be rewritten to read, “only compare this rating to the same for ¹⁷ similar vehicles.”

¹⁶ NADA cited “for similar vehicles.” The assumption was made that NADA meant “of similar vehicles.”

¹⁷ NADA cited “for similar vehicles.” The assumption was made that NADA meant “of similar vehicles.”

Agency Response: The type of qualifying language referred to in NADA's comments previously applied only to frontal crash ratings because the frontal crash test involves crashing a vehicle into a stationary barrier. For this type of test, the weight of the vehicle is a factor in how well the vehicle performs in the test. Since the frontal crash rating is a component used in determining the overall vehicle score, the same type of language was proposed in the NPRM for the overall vehicle score area of the safety rating label. Such language is not necessary for the side crash ratings because vehicle weight is less of an influence on injury outcome and side crash ratings can be compared with one another. The same is true of rollover safety ratings. All vehicles are put through the same dynamic maneuver during a rollover resistance test. The probability of the vehicle rolling over if it is involved in a single-vehicle crash is unrelated to the weight of the vehicle.

Therefore, today's final rule requires that the following language be in both the overall vehicle score and frontal crash areas of the safety rating label: “Should only be compared to other vehicles of similar size and weight.” We note that the agency decided to retain language from the current safety rating label rather than adopt the proposed language, “* * * of similar weight class.” The term “weight class,” as defined in the regulation ¹⁸ governing Vehicle Identification Numbers, includes weight ranges that are too broad and not necessarily appropriate for NCAP weight range comparisons. In the NCAP frontal crash test ratings and overall vehicle score, vehicles whose weights are no more than 114 kg (250 pounds) apart should be compared as to their relative safety. We are also not adopting NADA's alternatively proposed language, “only compare this rating to the same for similar vehicles,” since it is not clear how to identify a similar vehicle.

¹⁸ Part 565, “Vehicle Identification Number (VIN) Requirements,” contains a table in 565.15 titled “Gross Vehicle Weight Rating Classes.” The defined vehicle classes range from 0 to 3,000 pounds (lbs.), 3,001 to 4,000 lbs., 4,001 to 5,000 lbs. etc. up to 10,000 lbs. for light vehicles.

4. The Need To Better Distinguish Between Current and Revised Label

The modified safety rating label proposed in the NPRM did not differ significantly from the current label. The main difference is that the NPRM label included a new area at the top of the label for reporting a vehicle's overall vehicle score. For other sections of the safety rating label, the NPRM merely proposed revising the language describing the nature and meaning of the vehicle crash safety information that is displayed in the frontal crash and side crash areas of the safety rating label.

Honda commented that the current safety rating label and the revised label are not visually distinctive enough to prevent consumers from believing that the labels are the same and comparing the old and new ratings. The company suggested that the ratings on the revised label be expressed as a single series of stars for each of the four ratings categories. Under this approach, the company said, it would not be possible for consumers to compare the current and new frontal and side ratings.

Agency Response: The agency believes that the proposed label and the current label are sufficiently distinctive. The fact that the proposed label contains the overall vehicle score, while the current safety rating label does not, provides a sufficient basis for consumers to distinguish between the two labels. Honda's concern about consumers believing the current and revised safety rating label are the same should be mitigated because, as explained previously, the new ratings are already being displayed on the current label. (See further discussion in “Labeling Before and After NCAP Testing.”)

NHTSA decided against Honda's suggestion to use a single series of stars in each of the ratings areas—frontal crash, side crash, and rollover. As will be discussed further in this final rule, NHTSA's consumer research indicated that consumers want crash ratings for individual seating positions, which requires separate star ratings on the safety rating label for each rating area.

C. Absence of Crash Avoidance Information on the Label

The NPRM did not propose including advanced crash avoidance technology information on the safety rating label at this time. As discussed in the NPRM, to do so would require a rulemaking every time the agency wanted to add to the list of advanced crash avoidance technologies in the program, and there is also limited space available on the safety rating label under the current interpretation of SAFETEA-LU.

Bosch expressed concern over the absence of advanced crash avoidance technology information on the safety ratings label. It suggested that studies around the world have demonstrated the benefit of these technologies. The absence of information on these technologies from the safety rating label will undercut the agency's goal of creating market forces to drive the inclusion of these technologies in more and more vehicles, the company said. It further suggested that it will be inconsistent and confusing to consumers to have crash avoidance technology information on the Web site, http://www.safercar.gov, and not on the safety rating label.

Bosch said, at a minimum, that basic information indicating the availability of advanced crash avoidance technologies should be on the safety rating label either as a list or by using a check box. It indicated its strong preference that such information use the same 5-star ratings approach used for frontal and side crash and rollover resistance ratings with advanced crash avoidance technology ratings based on driving tests that assess system performance.

The company said few consumers use http://www.safercar.gov to conduct safety research before making vehicle purchasing decisions. Bosch further stated that the need to go through rulemaking to change the safety rating label whenever a new technology is added to the list of technologies in the NCAP program would not occur frequently and therefore would not be an “undue burden.” Bosch said that since SAFETEA-LU (Pub. L. 109-59) prescribes only the minimum size of the safety rating label, the safety rating label could be made larger to accommodate crash avoidance technology information.¹⁹ The company submitted a proposed safety rating label that includes crash avoidance technology information at the top of the label followed by the information contained in the NPRM.

¹⁹ See Docket No. NHTSA-2010-0025-0004.1.

In addition to the written comments it submitted, Bosch met with NHTSA staff on April 30, 2010 ²⁰ to discuss their recommended approach for communicating the availability of advanced safety technologies on the rating labeling portion of the Monroney label. Bosch suggested that if NHTSA uses more general crash avoidance technology on the Monroney label, such as “collision mitigation” rather than “collision warning,” this would eliminate any need for frequent revisions of the label as crash avoidance technologies progress. Bosch indicated that it strongly supports the incorporation of crash avoidance technologies on the Monroney label because it does not believe including crash avoidance technologies on http://www.safercar.gov alone provides sufficient consumer awareness of the technologies and their safety importance. Furthermore, it indicated that consumer awareness of crash avoidance technologies and consumer demand for them is crucial to having vehicle manufacturers incorporate the technologies into their vehicles.

²⁰ See Docket No. NHTSA-2010-0025-0013.1.

On July 15, 2010,²¹ Bosch also requested a meeting with NHTSA to present the results of research it had conducted to study new car buyers' information gathering processes and the impact of government listing of collision mitigation technologies on purchasing decisions. The research involved an Internet-based survey of 500 recent and soon-to-be new car buyers broken into two groups, one of which was presented with a sample window sticker that included what was portrayed as a government listing of collision mitigation features. The other was presented with a sample window sticker without such information. Bosch found that 58 percent of the group that was presented with a government listing of optional collision mitigation features, specifically lane departure warning and forward collision warning, indicated they would purchase a vehicle equipped with this equipment. Only about 45 percent of the group that was not presented with a government listing of this equipment indicated they would purchase a vehicle with this equipment. Based on these results and others from its survey, the company said that government recognition of collision mitigation systems increases the value of collision mitigation technologies to new car buyers.

²¹ See Docket No. NHTSA-2010-0025-0015.

Volvo also expressed concern that “advanced safety systems” information was excluded from the proposed label. It suggested that an area for this information be provided on the label or that manufacturers be allowed to affix an optional separate label to the vehicle to provide information about these systems. The company suggested that if the information were allowed on the label, its size could be reduced to facilitate its incorporation into available space. The company also suggested that consumers would benefit from a NHTSA rating system for these systems.

NADA said it appreciated NHTSA's reasons for not requiring advanced crash avoidance technology information on the label. It urged NHTSA to include a line in the header that would say, “See http://www.safercar.gov ²² for this vehicle's crash avoidance features.” It also asked that NHTSA urge manufacturers to include crash avoidance features in the description of standard and optional components found elsewhere on the Monroney label.

²² NADA cited http://www.safercars.gov in their comments. The assumption was made that NADA meant http://www.safercar.gov.

Agency Response: While the idea of a 5-Star rating system based on dynamic testing of advanced crash avoidance technologies, as suggested by Bosch and Volvo, is an appealing concept, the agency's experience has shown that developing testing protocols and rating systems is a lengthy and detailed process involving the gathering and analysis of data and conducting carefully designed and executed research. The creation and dissemination of advanced crash avoidance technology information on the agency's http://www.safercar.gov Web site is the first step in providing consumers with information about these technologies and their potential to avoid crashes and thus save lives and prevent injuries. Recently, the http://www.safercar.gov Web site was upgraded to support the enhanced NCAP program and it receives approximately 146,000 visitors per month. We have found this to be an effective platform for sharing information with the public and it can also be amended and updated with minimal difficulty. Conducting a formal rulemaking to amend the Monroney label is a far more burdensome process, even if technologies were grouped in generic categories such as “collision mitigation.” Furthermore, the agency is proceeding very deliberately in the advanced crash avoidance technologies area, promoting only three technologies that meet carefully considered criteria, and doing so within the limits of currently available resources. As more and more advanced crash avoidance technologies with demonstrated effectiveness become available, the agency will consider what additional steps are appropriate to take in providing consumers with information about the benefits of these technologies. For now, however, we believe that the approach taken is appropriate for their current state of the development.

As to the suggestion by Bosch that the safety rating label should be made larger to accommodate information not proposed in the NPRM, we simply note that the jurisdiction over the Monroney label is shared by the U.S. Environmental Protection Agency (EPA), NHTSA, and the U.S. Department of Justice (DOJ). NHTSA cannot unilaterally take space on the Monroney label.

NHTSA does not believe it is appropriate to use government sanctioned labels to promote advanced crash avoidance technologies as suggested by Volvo. There is nothing, however, to prevent a manufacturer, a dealer or even a supplier, such as Bosch, from developing materials that can be made available in showrooms and that promote the fact that there are advanced crash avoidance technologies on a vehicle that meet NHTSA's performance criteria and that have been shown to reduce crashes. In fact, the advertisement can be in the form of a pop-up tent display on a vehicle, window cling, or a separate label, as long as it does not cover the Monroney label. NHTSA has provided guidelines for promoting advanced crash avoidance technologies. Manufacturers may access the agency's guidelines via http://www.safercar.gov.²³

²³ http://www.safercar.gov/Vehicle+Manufacturers/NCAP+Advertising+Guidelines#crash.

The agency is not adopting NADA's suggestion to include language on the safety rating label that points consumers to http://www.safercar.gov for information about a vehicle's advanced crash avoidance technologies. This is primarily due to the limited amount of space on the safety rating label, especially under the current interpretation of SAFETEA-LU.

Finally, in response to NADA's request for NHTSA to urge manufacturers to “include crash avoidance features in the description of standard and optional components found elsewhere on the Monroney label,” we are not persuaded by the need to do so. The agency has selected three technologies—Electronic Stability Control (ESC), Forward Collision Warning (FCW), and Lane Departure Warning (LDW), to include in NCAP's advanced crash avoidance technologies program. One of the criteria it used in determining which technologies to include in the program is whether there is data that demonstrates the effectiveness of a technology in reducing crashes. Each of the three technologies selected has been shown to be effective in reducing crashes. Other advanced technologies do not yet meet this criterion. Rather than have the agency urge manufacturers to list advanced crash avoidance technologies that have not yet been shown to be effective, the primary challenge for the agency is to educate the public as to the effectiveness of the three technologies in the NCAP advanced crash avoidance technologies program so that the public will understand the value of these technologies no matter where they are listed.

D. Costs Associated With New Labels

The NPRM estimated the cost of the existing label to be less than $0.15 per vehicle and the requirements proposed in the NPRM would result in minor costs as they would simply require redesign of that label.

Volvo disagreed with the agency's cost assessment. It said that for a manufacturer its size, the cost (per vehicle) increases to approximately $0.45, which is a 67 percent increase, and represents “a significant economic consideration for a relatively small vehicle manufacturer.”

Honda said it is not able to print more than one label format at a time. It said the header and footer portion of safety rating labels must be pre-printed on label stock to accommodate the white text on a dark background specified by NHTSA for these areas. It indicated that the vehicle specific ratings are then printed on each safety rating label, specific to individual vehicle identification numbers (VINs), along with other information for that vehicle on remaining portions of the Monroney label. Monroney label printers are located at each of the company's six North American production facilities, as well as at importation ports, the company said.

Volvo further stated:

Due to the large number of vehicles serviced by each of these printers, and the speed at which the work is completed, we are unable to print multiple label formats simultaneously. Instead, we are able to print only one label format at a time. Any solution we have considered for this concern would dramatically exceed the cost estimate of $0.15 per label as indicated in the Rulemaking Analyses and Notices portion of the NPRM.

Honda offered two possible solutions for preventing manufacturers from “incurring unnecessary and exorbitant costs during the transition period from the 2010 to the 2011 model year.” The first approach would be to delay application of the new NCAP label area until manufacturers have completed their fleet transition to the first model year in which the new label would be required. Honda suggested this would be the most flexible solution since it “would allow each OEM to select a transition date prior to the end of the (calendar year) that best suits their business needs.” The second solution Honda proposed would allow manufacturers to apply the revised label format to all vehicles manufactured on or after September 1st of the first year the new label is required, regardless of model year. For example, if a manufacturer continued to build model year 2010 vehicles after the date on which revised labels are required, Honda said, “the NCAP information would require a label to state the following:

This is a 2010 model year vehicle. Please see http://www.safercar.gov to obtain the Government 5-Star Safety Ratings for this vehicle. The NCAP's 5-Star Safety Ratings were updated starting with the 2011 model year. The ratings for this vehicle cannot be compared to 2011 and newer models due to differences in the 5-Star rating system.

The company said this approach may help to alleviate confusion that could arise among consumers when there are two identical vehicles on the lot, one from the previous model year, one from the model year in which the revised safety rating label is required, and the ratings for the two vehicles differ because of the two different ratings systems.

Agency Response: The changes to the safety rating label are necessary to be reflective of the enhanced program. We recognize that the cost impacts to manufacturers can vary depending upon their label-producing methods and operations. So, the costs Volvo may incur may be different than other manufacturers. We note that the original safety rating label was mandated by Congress, and the agency believes it is necessary to update the safety rating label whenever there are substantial changes to NCAP. Other than the addition of the overall vehicle score information, changes to the current label and content are minimal. Hence, the agency believes it has done everything possible to minimize the one-time cost impact on manufacturers due to the transition from one safety rating label format to another while continuing to fulfill the mandate of Congress to make NCAP safety ratings available to consumers on the safety rating label at the point of sale.

The agency believes that any limitations on Honda's limited label printing flexibility has been minimized by the fact that the new safety rating label will not be required until January 31, 2012, not September 1, 2010, as originally envisioned by the agency. This should help with the transition to the new safety rating label.

E. Labeling Before and After NCAP Testing

In the NPRM, the agency stated that it does not and will not require manufacturers to reprint Monroney labels for vehicles that were produced prior to the agency's notification of new NCAP test results. However, the agency indicated that manufacturers are allowed to voluntarily re-label vehicles, should they choose, by replacing the entire Monroney label (not just the safety rating label with the NCAP information).

NADA suggested NHTSA require manufacturers to send out replacement Monroney labels for vehicles already on dealer lots when manufacturers receive the results of new NCAP tests. It suggested that this will avoid consumer confusion in situations where two same make and similarly equipped model vehicles on the same lot can have two different labels, one on the vehicle that arrived before the enhanced NCAP tests and ratings, and one that arrived afterward. This will be especially important during the transition to the new label, the association said.

Agency Response: The agency will not require manufacturers to send out replacement Monroney labels to dealers. Whether a manufacturer chooses to send out replacement Monroney labels is a business decision for the individual manufacturer. The transition to the revised safety rating label is a one-time event, and the impact it has on individual manufacturers will vary depending on when they begin manufacturing new model year vehicles. For some manufacturers, there may be only a small number of unsold vehicles with current safety rating labels on dealer lots as of the date when the revised safety rating label is required.

As previously discussed, the situation has already been ameliorated somewhat by the fact that MY 2011 vehicles have already begun displaying ratings based on the enhanced NCAP rating system in the current safety rating label. So, while there may be situations in which there will be the same model year, make and model vehicles on a dealer's lot with different labels, there will not likely be the same make and model vehicles from different model years with different ratings. The only difference that will occur will be that one vehicle will not have the overall vehicle score while the other version will. So when consumers raise questions about it, the satisfactory answer will be that the overall vehicle score applies to both vehicles because they are identical.

F. Consumer Survey and Label Research

In the NPRM, the agency requested comments on whether its planned follow-up consumer testing for the safety section of the label should include all four items that might appear on the Monroney label (price, safety, fuel economy/greenhouse gas emissions, and domestic content) to help the agency understand better any potential tradeoffs consumers may make among those items and whether the relative amount of space dedicated to each of the four items and the different ways in which these items are presented affects the attention consumers give the items, especially the safety information. The agency also solicited public comments on the benefits the public would receive from a coordinated approach to any revision of the Monroney label among the three agencies with authority over the different sections (DOJ for price information, EPA/NHTSA for fuel economy/greenhouse gas emissions, and NHTSA for safety and domestic content), and whether those benefits would outweigh any delays that might occur to achieve comprehensive and coordinated revisions to parts of the Monroney label. Furthermore, the agency requested comments on effective approaches for communicating safety ratings to consumers with particular interest in data to substantiate the effectiveness of recommended approaches.

In response to the NPRM, the Advocates agreed the agency should conduct research to understand better possible tradeoffs consumers make among price, safety, fuel economy/greenhouse gas emissions, and domestic content, and whether the amount of space dedicated to each of the four items affects consumers' attention to those items.²⁴ In addition to the size of the area dedicated to an information item, the research should also consider the location on the label of the items and font sizes used to communicate types of information, the organization said. Smaller font size could be interpreted as indicating information of lesser importance, the Advocates said. The organization restated its position from previous comments that the Automobile Information Disclosure Act, 15 U.S.C. 1231-1233, sets a minimum size for the safety label, but does not prohibit the agency from creating a label larger than the minimum requirements.

²⁴ For example, the current fuel economy label and the proposed fuel economy/greenhouse gas emissions label both measure approximately 7 inches by 4.5 inches. This is approximately double the size of a safety ratings label that is just large enough to meet the minimum size requirement in SAFETEA-LU, i.e., either have a minimum length of 4½ inches and a minimum height of 3½ inches or cover at least 8 percent of the total area of the Monroney label, whichever is larger.

Honda questioned whether the agency had asked consumers in the previous survey to compare different sample labels (i.e., one sample label with star ratings for each seating position and another sample with a single-line rating for each rating category).” It stated that this approach would have yielded information about how effective the star rating by seat position strategy would have been. Honda stated that “in any survey the questions should be designed to help filter out the effects of the survey environment being removed from the conditions being studied. Specifically, it is to be expected that when you ask a person `would you like more information or less information' at the same perceived cost most people would opt more information. However, when you ask people to make comparisons between different presentations of information to answer specific questions, you can gather actionable results. In this case, it may have been more valuable to have asked survey participants to compare the current and variations of the proposed ratings areas. If participants were able to compare the current ratings to the proposed ratings, it would have been more possible to conclude that the information should have been presented differently to discourage that type of comparison.”

Agency Response: As indicated in the NPRM, the agency agrees that comprehensive consumer research on the entire Monroney label, including the safety rating label, is desirable. Such research would be a complicated process because of the variety of information involved and the fact that three government agencies—NHTSA, DOJ, and EPA share jurisdiction over all or part of the Monroney label. Now that the fuel economy/greenhouse gas emissions portion of the Monroney label is finalized and NHTSA is revising the safety rating portion of the Monroney label with this final rule to reflect changes in the enhanced NCAP testing and rating program, the agency will conduct comprehensive consumer market research that will consider the location and size of the safety rating label and compare with other areas of the Monroney label (including color, font sizes and potential tradeoffs used to communicate types of information). In addition, we will explore adding the advanced crash avoidance safety information to the safety rating label. Initiation of the planned consumer market research is anticipated to begin five months after the publication of this final rule. The timeline for the qualitative and quantitative research phases is detailed in the following tables.

Action/Milestone | Target completion date
Qualitative Research ICR Process:
Update ICR documents | June 24, 2011.
Program Office review ICR documents | June 24-July 6, 2011.
Revisions to ICR documents based on Program Office feedback | July 12, 2011.
NHTSA Agency Review of ICR documents | July 13-27, 2011.
NCAP Final Rule | July 29, 2011.
Final revisions to ICR documents | July 29, 2011.
Post 60-Day Notice on Federal Register | August 3, 2011.
60-Day Comment Period | August 3-October 3, 2011.
Informal Review of Package by OMB | (During 60-Day Comment Period).
Revise ICR package based on comments received | October 7, 2011.
NHTSA review revised documents | October 7-11, 2011.
Post 30-Day Notice to Federal Register | October 12, 2011.
OST Review and formal submission to OMB | October 12-26, 2011.
30-Day notice closes | November 14, 2011.
OMB Review of ICR documents | December 15, 2011.
OMB Approves Qualitative package | December 15, 2011.
Qualitative Research Execution:
Set-up Focus Groups (finalize locations, dates, recruit) | December 15-30, 2011.
Conduct focus groups | January 9-19, 2012.
Top-Line Interim Report | January 20, 2012.
Final Reports for Qualitative Research Due | January 30, 2012.
Quantitative Research ICR Process:
Draft and finalize online survey based on Qualitative Final Reports | February 14, 2012.
Program Office and BTS review ICR documents | February 24, 2012.
Revisions to ICR documents based on Program Office and BTS feedback | March 2, 2012.
NHTSA Agency Review of ICR documents | March 2-16, 2012.
Post 60-Day Notice on FR | March 21, 2012.
Informal Review of Package by OMB | (During 60-Day Comment Period).
60-Day Comment Period Closes | May 21, 2012.
Revise ICR documents based on comments received | May 25, 2012.
NHTSA Review of ICR Package | June 3, 2012.
Post 30-Day Notice on FR | June 6, 2012.
OST Review and Formal Submission to OMB | June 6-20, 2012.
30-Day Comment Period closes | July 5, 2012.
OMB Review and Approve Quantitative ICR package | August 6, 2012.
Quantitative Research Execution:
Program online survey | August 10, 2012.
Conduct online surveys | August 13-31, 2012.
Interim Top-Line Report | September 5, 2012.
Final Report on survey results and recommendations | September 14, 2012.

In response to Honda's question, we note that participants in the agency's previous survey were provided with a sample of the current label, as well as various proposed label samples. Participants overwhelmingly preferred the label concept that provided safety rating information for each seating position, rather than a combined driver and passenger seating position rating.²⁵

²⁵ 75 FR 10744.

G. Other Issues

1. Legend for Star Ratings

Noting that it has long objected to the star rating system, the Advocates said that, based on conversations and consumer calls, few people understand what the star ratings represent or how they should be interpreted. The organization suggested that each safety rating label should at least include a legend that provides risk information for consumers. Advocates suggested including in the label the star rating risk charts for each of the rating categories that may be found on http://www.safercar.gov and elsewhere.

Agency Response: The agency's experience and consumer research it has conducted indicates that the star rating system is an effective way to communicate vehicle safety information to consumers. NHTSA notes again that it has stated that it is re-examining its interpretation about the size of the NCAP label. However, including the star rating risk charts in the safety rating label would require label space far beyond not only what has been thought to be available, but also what would likely be available under any realistic expansion of the label beyond its current size. Thus, the agency cannot agree to either of these suggestions. However, it does make the star rating risk information available on http://www.safercar.gov.

2. Overall Vehicle Score

In the NPRM, the agency proposed adding a new area of the label called the “Overall Vehicle Score.” The agency also proposed that the overall vehicle score area be placed immediately below the heading area of the label as the first item of safety information. In this area, the vehicle's overall vehicle star rating would be displayed.

As mentioned in the previous section, Advocates expressed concerns regarding the lack of consumer understanding of the agency's star rating system. Advocates suggested that the average consumer would not understand how a single star rating (the overall vehicle score) can represent all the various types of injuries that are subject to each of the NCAP test modes (i.e., frontal, side and rollover) and “how these already aggregate ratings can then be further combined in a single overall rating intended to represent the complete safety status of the vehicle.” Advocates further stated that this generic rating provides “no specific guidance and information on key vehicle performance safety characteristics.” The organization said NHTSA must also develop a risk table for the overall vehicle score and include that table on all labels that provide consumers with vehicle star ratings.

Agency Response: The purpose of the overall vehicle score, as well as the entire safety rating label, is to provide consumers with an easy to access and understand indication of a vehicle's relative safety, i.e., how the vehicle compares to other similar vehicles. While a consumer who has visited, and becomes familiar with information on, the Web site http://www.safercar.gov may have a fuller understanding of the star ratings that appear on a safety rating label, our whole purpose in using a star rating system is to simplify detailed technical information to the consumer in an easy-to-understand format.

We make more detailed information available on http://www.safercar.gov where we describe how the overall vehicle score is the weighted average of a vehicle's frontal crash, side crash, and rollover scores. Risk curves are used in the determination of safety ratings in each of these areas. We further describe how the overall vehicle score reflects how well a vehicle compares to the overall vehicle scores of representative vehicles in the fleet. While the agency believes that the overall vehicle score is a good measure of a vehicle's relative overall safety, we will continue to periodically review our data to see if the enhanced program can be further refined to provide additional useful vehicle safety information to consumers.

3. Correction to Ratings Description

Recent changes in the side NCAP program include new test dummies for the two seating positions in the movable deformable barrier (MDB) test, a new oblique pole test with a small female crash test dummy in the driver position, and additional injury criteria for both the MDB and the new oblique pole tests. As a result of these changes, the agency proposed that the statement at the bottom of the Side Crash area of the safety rating label read “Based on the risk of injury in side impact tests” to illustrate that ratings are obtained from both the side MDB and new oblique pole tests.

Honda commented on what it called “an anomaly in the description of the various ratings.” Referring to the statement, “based on the risk of injury in side impact tests,” Honda said, “While the description of the side impact rating accurately reflects that the ratings are based on two distinct tests, it is still a forecast of the risk of injury in a single side impact crash event.”

Agency Response: The agency agrees with Honda's observation and has changed the language to state “Based on the risk of injury in a side impact.”

4. Visibility Obstructions

The NPRM stated that the safety rating information must be presented in a legible, visible, and prominent fashion and cover at least 8 percent of the total area of the Monroney label ²⁶ or an area with a minimum of 4½ inches in length and 3½ inches in height on the Monroney label, whichever is larger.

²⁶ The total area of the Monroney label includes the area of the safety rating label.

NADA reiterated its “long expressed concerns” about the size and location of the Monroney label because it believes that the label obstructs the driver's field of vision and therefore may raise concerns under state laws that govern the operation of motor vehicles when visibility is obstructed. The association urged NHTSA to encourage manufacturers to minimize the overall size of their Monroney labels for these reasons.

Agency Response: The agency is aware of NADA's visibility concerns. However, the Monroney label is required by Congress. As previously mentioned, it is shared with two other organizations (EPA and DOJ) and the information it contains goes beyond the safety rating label section of the Monroney label. Even if the agency were to attempt to restrict the size of the Monroney label, it could not unilaterally affect such a change because of the involvement of other agencies that regulate the label content. Other than NADA's comments on this rulemaking and others, the agency is not aware of any concern on the part of the states as to the size and location of the Monroney label. Therefore, there will be no effort at this time to reduce, or increase, the size of the Monroney label.

H. Lead Time and Other Timing Considerations

The NPRM proposed that model year 2011 and later vehicles manufactured on or after September 1, 2010, would be required to have the new safety rating labels. As is the case in the current labeling program, manufacturers would be required to place the new Government 5-Star safety ratings on the Monroney label of new vehicles 30 days after receiving notification of NCAP test results from NHTSA. The NPRM proposed to permit early compliance for model year 2011 vehicles manufactured before September 1, 2010, provided the ratings placed on the safety rating label were derived from vehicle testing conducted using the updated NCAP testing criteria adopted on July 11, 2008.²⁷

²⁷ 73 FR 40016.

The Alliance called for a minimum of six months lead time before requiring the new label, citing the “significant programming and validation” required. It indicated that such lead time is consistent with that provided for other new or revised labels.

Nissan also requested six months of lead time to allow for “significant modifications to the current process Nissan uses to print Monroney labels.” Nissan said that the addition of the overall vehicle score and the ability to identify a safety concern in the overall vehicle score area of the label requires software changes and other changes to business tools involved.

Nissan also indicated there will be a temporary need to be able to print two differently formatted Monroney labels, those used under the previous safety rating program and those used under the revised program. Nissan stated it does not currently have the ability to do this. The company asked that the agency allow companies to voluntarily use the proposed new text in the label header, footer, and other areas in labels that are printed for the old ratings program in the time leading up to when the revised safety rating label will be required. Nissan stated that “Although this would not alleviate all of the challenges related to printing two different labels at the same time, it would help streamline the amount of work necessary to move to the new label requirements and help limit the amount of investment directed at changes that do not provide long-term benefits.” The company further said that past EPA and NHTSA changes to the Monroney label have provided enough lead time to allow manufacturers to implement the changes.

Volvo also expressed concern that identical model year vehicles could end up having different Monroney labels on them. The company pointed out that in January 2010, Volvo released two 2011 model year vehicles for sale. Had the new safety rating label gone into effect as of September 1, 2010 as originally proposed, those vehicles would have had different safety rating labels, depending on when they were manufactured, even though they are the same model year, make and model. It suggested that these situations would cause significant consumer confusion at the point of sale. “Although Volvo has some flexibility to quickly adapt to the proposed changes, it is both economically and logistically prohibitive to retrofit a new Monroney label and affix it to these vehicles,” Volvo said.

The AIAM stated that the amount of time given to manufacturers to comply with the new labeling requirements should be six months from the date of issuance of the final rule since manufacturers will not know the details of the new requirements for certain until then. It suggested that manufacturers will need to make several programming and process changes to revise labels so that they conform to the new requirements.

Agency Response: The agency has carefully considered the comments to the NPRM and has adjusted the implementation date to January 31, 2012, for the new label. We believe this will address lead time concerns expressed by the Alliance and Nissan. With respect to Volvo's concern about possibly having two different safety rating labels (i.e., the current and the revised), on identical model year vehicles, the agency has provided the option for manufacturers to start using the revised safety rating label format on model year 2012 vehicles manufactured before January 31, 2012. If this option is used, the manufacturer will have to place the words “not rated” in the section of the label for overall vehicle score as well as in any other sections of the label for which NCAP ratings under the enhanced ratings program are not available. If a model year 2012 vehicle is slated to be tested and rated under the enhanced NCAP such that all NCAP ratings for which space is provided on the revised safety ratings label will eventually be available, the manufacturer is allowed to use the words “to be rated” on the safety rating label where appropriate.

VI. Rulemaking Analyses and Notices

A. Executive Orders 12866 and 13563 and DOT Regulatory Policies and Procedures

NHTSA has considered the impact of this rulemaking under Executive Orders 12866 and 13563 and the Department of Transportation's regulatory policies and procedures. The agency has considered carefully under Executive Order 13563 seven principles of summary disclosure as a regulatory tool when drafting this rulemaking document. This action has been determined to be “non-significant” under the Department of Transportation's regulatory policies and procedures. The agency has concluded that the impacts of the amendments in this final rule will be so minimal that preparation of a full regulatory evaluation is not be required.

This final rule requires vehicle manufacturers to add to the existing safety rating label the new overall vehicle score rating the agency has added to the NCAP program, and to make minor modifications to the safety rating label. The agency has considered and concluded that the one-time redesign cost and the cost of redesign to replace “Not Rated” or “To Be Rated” with stars each time a vehicle is rated all to be minor. The cost of the existing label is estimated to be less than $0.15 per vehicle, and, under today's final rule, the label will remain the same size. Given these considerations, any effects on costs will be trivial.

B. Regulatory Flexibility Act

Pursuant to the Regulatory Flexibility Act (5 U.S.C. 601 et seq., as amended by the Small Business Regulatory Enforcement Fairness Act (SBREFA) of 1996), whenever an agency is required to publish a rulemaking notice for any proposed or final rule, it must prepare and make available for public comment a regulatory flexibility analysis that describes the effect of the rule on small entities (i.e., small businesses, small organizations, and small governmental jurisdictions). The Small Business Administration's regulations at 13 CFR part 121 define a small business, in part, as a business entity “which operates primarily within the United States.” (13 CFR 121.105(a)). No regulatory flexibility analysis is required if the head of an agency certifies the rule will not have a significant economic impact on a substantial number of small entities. SBREFA amended the Regulatory Flexibility Act to require Federal agencies to provide a statement of the factual basis for certifying that a rule will not have a significant economic impact on a substantial number of small entities.

NHTSA has considered the effects of this final rule under the Regulatory Flexibility Act. There are four small motor vehicle manufacturers in the United States building vehicles that will be affected by this rule. I certify that this final rule will not have a significant economic impact on a substantial number of small entities. The rationale for this certification is that the agency does not believe that this proposal adds a significant economic cost to a motor vehicle. The cost of the existing label is estimated to be less than $0.15 per vehicle. The requirements in today's document will result in minor costs as it will merely require redesign of that label.

C. Paperwork Reduction Act

Under the Paperwork Reduction Act of 1995 (44 U.S.C. 3501 et seq.) (PRA), a person is not required to respond to a collection of information by a Federal agency unless the collection displays a valid Office of Management and Budget (OMB) control number. For the following reasons, NHTSA concludes that this rulemaking will not impose any new collection of information requirements for which a 5 CFR part 1320 clearance must be obtained. As described previously, this rule will require vehicle manufacturers to include on the existing safety rating labels, the overall vehicle score rating information by NCAP. This final rule details how NHTSA describes the appearance of the label, and specifies to the vehicle manufacturers, in both individual letters to the manufacturers and on the NHTSA's 5-Star safety ratings Web site (http://www.safercar.gov), the information specific to a particular motor vehicle make and model that the vehicle manufacturer must place on the Monroney label.

Because NHTSA will specify the format of the safety rating label, and the information each vehicle manufacturer must include on the label, this “collection of information” falls within the exception described in 5 CFR Section 1320.3(c)(2) which states in part: “The public disclosure of information originally supplied by the Federal government to the recipient for the purpose of disclosure to the public is not included within this definition.”

The Government 5-Star safety ratings are created by NHTSA. This final rule requires vehicle manufacturers to take the Government 5-Star safety ratings (which NHTSA will provide to each manufacturer) and report them on the Monroney labels, thus disclosing them to potential customers (i.e., the public). For this reason, this final rule will impose a “collection of information” requirement for which 5 CFR part 1320 approval need not be obtained.

D. National Environment Policy Act

NHTSA has analyzed this final rule for the purposes of the National Environmental Policy Act and has determined that the rule will not have any significant impact on the quality of the human environment.

E. Executive Order 13132 (Federalism)

The agency has analyzed this final rule in accordance with the principles and criteria contained in Executive Order 13132 and has determined that it does not have sufficient federalism implications to warrant consultation with State and local officials or the preparation of a federalism summary impact statement. This final rule will have no substantial effects on the States, on the current Federal-State relationship, or on the current distribution of power and responsibilities among the various local officials.

F. Civil Justice Reform

This final rule will not have any retroactive effect. Parties are not required to exhaust administrative remedies before filing suit in court.

G. National Technology Transfer and Advancement Act

Section 12(d) of the National Technology Transfer and Advancement Act of 1995 (NTTAA), Public Law 104-113, section 12(d) (15 U.S.C. 272) directs NHTSA to use voluntary consensus standards in regulatory activities unless doing so would be inconsistent with applicable law or would otherwise be impractical. Voluntary consensus standards are technical standards (e.g., materials specifications, test methods, sampling procedures, and business practices) that are developed or adopted by voluntary consensus standards bodies, such as the Society of Automotive Engineers (SAE). The agency searched for, but did not find any, voluntary consensus standards relevant to this final rule.

H. Unfunded Mandates Reform Act

This final rule will not impose any unfunded mandates under the Unfunded Mandates Reform Act (UMRA) of 1995. This rule will not result in costs of $100 million or more to either State, local, or Tribal governments, in the aggregate, or to the private sector. Thus, this rule is not subject to the requirements of sections 202 and 205 of the UMRA.

I. Privacy Act Statement

Anyone is able to search the electronic form of all comments or petitions received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

List of Subjects in 49 CFR Part 575

Consumer protection, Motor vehicle safety, Reporting and recordkeeping requirements.

In consideration of the foregoing, 49 CFR part 575 is amended to read as follows:

PART 575—CONSUMER INFORMATION

1. The authority citation for part 575 continues to read as follows:

Authority: 49 U.S.C. 32302, 30111, 30115, 30117, 30166 and 30168, Pub. L. 104-414, 114 Stat. 1800, Pub. L. 109-59, Stat. 1144, 15 U.S.C. 1232(g); delegation of authority at 49 CFR 1.50.

2. Section 575.301 is amended by revising the section heading and paragraph (b) to read as follows:

§ 575.301 Vehicle labeling of safety rating information (applicable unless a vehicle is subject to § 575.302).

* * * * *

(b) Application. This section applies to automobiles with a GVWR of 10,000 pounds or less, manufactured on or after September 1, 2007, that are required by the Automobile Information Disclosure Act, 15 U.S.C. 1231-1233, to have price sticker labels (Monroney labels), e.g. passenger vehicles, station wagons, passenger vans, and sport utility vehicles, except for vehicles that are subject to § 575.302. Model Year 2012 or later vehicles manufactured prior to January 31, 2012 may be labeled according to the provisions of § 575.302 instead of this section provided the ratings placed on the safety rating label are derived from vehicle testing conducted by the National Highway Traffic Safety Administration under the enhanced NCAP testing and rating program.

* * * * *

3. Section 575.302 is added to read as follows:

§ 575.302 Vehicle labeling of safety rating information (compliance required for model year 2012 and later vehicles manufactured on or after January 31, 2012).

(a) Purpose and scope. The purpose of this section is to aid potential purchasers in the selection of new passenger motor vehicles by providing them with safety rating information developed by NHTSA in its New Car Assessment Program (NCAP) testing. Manufacturers of passenger motor vehicles described in paragraph (b) of this section are required to include this information on the Monroney label. Although NHTSA also makes the information available through means such as postings at http://www.safercar.gov and http://www.nhtsa.dot.gov, the additional Monroney label information is intended to provide consumers with relevant information at the point of sale.

(b) Application. This section applies to automobiles with a GVWR of 10,000 pounds or less, manufactured on or after January 31, 2012 that are have vehicle identification numbers that identify the vehicles to be model year 2012 or later and that are required by the Automobile Information Disclosure Act, 15 U.S.C. 1231-1233, to have price sticker labels (Monroney labels), e.g. passenger vehicles, station wagons, passenger vans, pickup trucks and sport utility vehicles. Model Year 2012 or later vehicles manufactured prior to January 31, 2012 may, at the manufacturer's option, be labeled according to the provisions of this § 575.302 provided the ratings placed on the safety rating label are derived from vehicle testing conducted by the National Highway Traffic Safety Administration under the enhanced NCAP testing and rating program.

(c) Definitions.

(1) Monroney label means the label placed on new automobiles with the manufacturer's suggested retail price and other consumer information, as specified at 15 U.S.C. 1231-1233.

(2) Safety rating label means the label with NCAP safety rating information, as specified at 15 U.S.C. 1232(g). The safety rating label is part of the Monroney label.

(d) Required label.

(1) Except as specified in paragraph (f) of this section, each vehicle must have a safety rating label that is part of its Monroney label, meets the requirements specified in paragraph (e) of this section, and conforms in content, format and sequence to the sample label depicted in Figure 1 of this section. If NHTSA has not provided a safety rating for any category of vehicle performance for a vehicle, the manufacturer may use the smaller label specified in paragraph (f) of this section.

(2) The label must depict the star ratings for that vehicle as reported to the vehicle manufacturer by NHTSA.

(3) Whenever NHTSA informs a manufacturer in writing of a new safety rating for a specified vehicle or the continued applicability of an existing safety rating for a new model year, including any safety concerns, the manufacturer shall include the new or continued safety rating on vehicles manufactured on or after the date 30 calendar days after receipt by the manufacturer of the information.

(4) If, for a vehicle that has an existing safety rating for a category, NHTSA informs the manufacturer in writing that it has approved an optional NCAP test that will cover that category, the manufacturer may depict vehicles manufactured on or after the date of receipt of the information as “Not Rated” or “To Be Rated” for that category.

(5) The text “Overall Vehicle Score,” “Frontal Crash,” “Side Crash,” “Rollover,” “Driver,” “Passenger,” “Front Seat,” “Rear Seat” and where applicable, “Not Rated” or “To Be Rated,” the star graphic indicating each rating, as well as any text in the header and footer areas of the label, must have a minimum font size of 12 point. All remaining text and symbols on the label (including the star graphic specified in paragraph (e)(9)(i) of this section), must have a minimum font size of 8 point.

(e) Required information and format.

(1) Safety rating label border. The safety rating label must be surrounded by a solid dark line that is a minimum of 3 points in width.

(2) Safety rating label size and legibility. The safety rating label must be presented in a legible, visible, and prominent fashion that covers at least 8 percent of the total area of the Monroney label (i.e., including the safety rating label) or an area with a minimum of 4½ inches in length and 3½ inches in height on the Monroney label, whichever is larger.

(3) Heading area. The words “Government 5-Star Safety Ratings” must be in boldface, capital letters that are light in color and centered. The background must be dark.

(4) Overall vehicle score area.

(i) The overall vehicle score area must be placed immediately below the heading area and must have dark text and a light background. The overall vehicle score rating must be displayed with the maximum star rating achieved.

(ii) The words “Overall Vehicle Score” must be in boldface aligned to the left side of the label. The achieved star rating must be on the same line and be aligned to the right side of the label and left justified.

(iii) The words “Based on the combined ratings of frontal, side and rollover.” followed (on the next line) by the statement “Should only be compared to other vehicles of similar size and weight.” must be placed at the bottom of the overall vehicle score area and left justified.

(iv) If NHTSA has not released the star rating for the “Frontal Crash,” “Side Crash,” or “Rollover” area, the text “Not Rated” must be used in boldface. However, as an alternative, the words “To Be Rated” (in boldface) may be used if the manufacturer has received written notification from NHTSA that the vehicle has been chosen for the NCAP frontal, side, and/or rollover testing such that there will be ratings in all three areas.

(5) Frontal crash area.

(i) The frontal crash area must be placed immediately below the overall vehicle score area, separated by a dark line that is a minimum of three points in width. The text must be dark against a light background. Both the driver and the right front seat passenger frontal crash test ratings must be displayed with the maximum star ratings achieved.

(ii) The words “Frontal Crash” must be in boldface, cover two lines, and be aligned to the left side of the label.

(iii) The word “Driver” must be on the same line as the word “Frontal” in “Frontal Crash,” and be horizontally centered, left justified and vertically aligned to the top of the frontal crash area. The achieved star rating for “Driver” must be on the same line and be aligned to the right side of the label and left justified.

(iv) If NHTSA has not released the star rating for the “Driver” position, the text “Not Rated” must be used in boldface. However, as an alternative, the words “To Be Rated” (in boldface) may be used if the manufacturer has received written notification from NHTSA that the vehicle has been chosen for NCAP testing. Both texts must be on the same line as the text “Driver” and be aligned to the right side of the label and left justified.

(v) The word “Passenger” must be on the same line as the word “Crash” in “Frontal Crash,” below the word “Driver,” and be horizontally centered, left justified and vertically aligned to the top of the frontal crash area. The achieved star rating for “Passenger” must be on the same line and be aligned to the right side of the label and left justified.

(vi) If NHTSA has not released the star rating for “Passenger,” the words “Not Rated” must be used in boldface. However, as an alternative, the words “To Be Rated” (in boldface) may be used if the manufacturer has received written notification from NHTSA that the vehicle has been chosen for NCAP testing. Both texts must be on the same line as the text “Passenger” and be aligned to the right side of the label and left justified.

(vii) The words “Based on the risk of injury in a frontal impact.” followed (on the next line) by the statement “Should ONLY be compared to other vehicles of similar size and weight.” must be placed at the bottom of the frontal crash area and left justified.

(6) Side crash area.

(i) The side crash area must be immediately below the frontal crash area, separated by a dark line that is a minimum of three points in width. The text must be dark against a light background. Both the driver and the rear seat passenger side crash test rating must be displayed with the maximum star rating achieved.

(ii) The words “Side Crash” must cover two lines, and be aligned to the left side of the label in boldface.

(iii) The words “Front seat” must be on the same line as the word “Side” in “Side Crash” and be horizontally centered, left justified and vertically aligned to the top of the side crash area. The achieved star rating for “Front seat” must be on the same line as the words “Front seat” and be aligned to the right side of the label and left justified.

(iv) If NHTSA has not released the star rating for “Front Seat,” the words “Not Rated” must be used in boldface. However, as an alternative, the words “To Be Rated” (in boldface) may be used if the manufacturer has received written notification from NHTSA that the vehicle has been chosen for NCAP testing. Both texts must be on the same line as the text “Front seat” and be aligned to the right side of the label and left justified.

(v) The words “Rear seat” must be on the same line as the word “Crash” in “Side Crash,” below the word “Front seat,” and be horizontally centered, left justified and vertically aligned to the top of the side crash area. The achieved star rating for “Rear seat” must be on the same line as the text “Rear seat” and be aligned to the right side of the label and left justified.

(vi) If NHTSA has not released the star rating for “Rear Seat,” the text “Not Rated” must be used in boldface. However, as an alternative, the text “To Be Rated” (in boldface) may be used if the manufacturer has received written notification from NHTSA that the vehicle has been chosen for NCAP testing. Both texts must be on the same line as the text “Rear seat” and be aligned to the right side of the label and left justified.

(vii) The words “Based on the risk of injury in a side impact.” must be placed at the bottom of the side crash area and left justified.

(7) Rollover area.

(i) The rollover area must be immediately below the side crash area, separated by a dark line that is a minimum of three points in width. The text must be dark against a light background. The rollover test rating must be displayed with the maximum star rating achieved.

(ii) The word “Rollover” must be aligned to the left side of the label in boldface. The achieved star rating must be on the same line and be aligned to the right side of the label and left justified.

(iii) If NHTSA has not tested the vehicle, the words “Not Rated” must be used in boldface. However, as an alternative, the words “To Be Rated” (in boldface) may be used if the manufacturer has received written notification from NHTSA that the vehicle has been chosen for NCAP testing. Both texts must be on the same line as the text “Rollover” and be aligned to the right side of the label and left justified.

(iv) The words “Based on the risk of rollover in a single-vehicle crash.” must be placed at the bottom of the rollover area and left justified.

(8) Graphics. The star graphic is depicted in Figure 3 and the safety concern graphic is depicted in Figure 4.

(9) Footer area. The footer area must be placed at the bottom of the label; the text must be in boldface letters that are light in color and centered. The background must be dark. The text must state the following, in the specified order, on separate lines:

(i) “Star ratings range from 1 to 5 stars (★ ★ ★ ★ ★) with 5 being the highest.”

(ii) “Source: National Highway Traffic Safety Administration (NHTSA).”

(iii) “www.safercar.gov or 1-888-327-4236.”

(10) Safety concern. For vehicle tests for which NHTSA reports a safety concern as part of the safety rating, and for overall vehicle scores that are derived from vehicle tests for at least one of which NHTSA reports a safety concern as part of the safety rating, the label must:

(i) In both the rating area in which the safety concern was identified and in the overall vehicle score area, depict, as a superscript to the star rating, the safety concern symbol, as depicted in Figure 4 of this section, at ⅔ the font size of the base star, and

(ii) Include at the bottom of the overall vehicle score area only as the last line of that area, in no smaller than 8 point type, the related symbol, as depicted in Figure 4 of this section, as a superscript of the rest of the line, and the text “Safety Concern: Visit www.safercar.gov or call 1-888-327-4236 for more details.”

(11) No additional information may be provided in the safety rating label area. The specified information provided in a language other than English is not considered to be additional information.

(f) Smaller safety rating label for vehicles with no ratings.

(1) If NHTSA has not released a safety rating for any category for a vehicle, the manufacturer may use a smaller safety rating label that meets paragraphs (f)(2) through (f)(5) of this section. A sample label is depicted in Figure 2.

(2) The label must be at least 4½ inches in width and 1½ inches in height, and must be surrounded by a solid dark line that is a minimum of 3 points in width.

(3) Heading area. The text must read “Government 5-Star Safety Ratings” and be at least in 14-point boldface, capital letters that are light in color, and be centered. The background must be dark.

(4) General information. The general information area must be below the header area. The text must be dark and the background must be light. The text must state the following, in at least 12-point font and be left justified: “This vehicle has not been rated by the government for overall vehicle score, frontal crash, side crash, or rollover risk.”

(5) Footer area. The footer area must be placed at the bottom of the label; the text must be at least in 12-point boldface letters that are light in color, and centered. The background must be dark. The text must state the following, in the specified order, on separate lines:

(i) “Source: National Highway Traffic Safety Administration (NHTSA)” and

(ii) “www.safercar.gov or 1-888-327-4236”.

(6) No additional information may be provided in the smaller safety rating label area. The specified information provided in a language other than English is not considered to be additional information.

(g) Labels for alterers.

(1) If, pursuant to 49 CFR 567.7, a person is required to affix a certification label to a vehicle, and the vehicle has a safety rating label with one or more safety ratings, the alterer must also place another label on that vehicle as specified in this paragraph.

(2) The additional label (which does not replace the one required by 49 CFR 567.7) must read: “This vehicle has been altered. The stated star ratings on the safety rating label may no longer be applicable.”

(3) The label must be placed adjacent to the Monroney label or as close to it as physically possible.

BILLING CODE 4910-59-P

Issued on: July 22, 2011.
David L. Strickland,
Administrator for the National Highway Traffic Safety Administration.

[FR Doc. 2011-19049 Filed 7-28-11; 8:45 am]

BILLING CODE 4910-59-C